DEPARTMENT OF THE TREASURY

Designation of Nine Individuals Pursuant to Executive Order 13566

AGENCY: Office of Foreign Assets Control, Treasury.

ACTION: Notice.

SUMMARY: The Treasury Department's Office of Foreign Assets Control (“OFAC”) is publishing the names of nine individuals newly-designated as persons whose property and interests in property are blocked pursuant to Executive Order 13566 of February 25, 2011, “Blocking Property and Prohibiting Certain Transactions Related to Libya.”

DATES: The designation by the Director of OFAC of the nine individuals identified in this notice, pursuant to Executive Order 13566 of February 25, 2011, is effective March 11, 2011.

FOR FURTHER INFORMATION CONTACT: Assistant Director, Compliance Outreach & Implementation, Office of Foreign Assets Control, Department of the Treasury, Washington, DC 20220, Tel.: 202/622-2490.

SUPPLEMENTARY INFORMATION:

Electronic and Facsimile Availability

This document and additional information concerning OFAC are available from OFAC's Web site (http://www.treas.gov/ofac) or via facsimile through a 24-hour fax-on-demand service, Tel.: 202/622-0077.

Background

On February 25, 2011, the President issued Executive Order 13566, “Blocking Property and Prohibiting Certain Transactions Related to Libya” (the “Order”) pursuant to, inter alia, the International Emergency Economic Powers Act (50 U.S.C. 1701-06).

Section 1 of the Order blocks, with certain exceptions, all property and interests in property that are in the United States, that come within the United States, or that are or come within the possession or control of any United States person, of persons listed in the Annex to the Order and of persons determined by the Secretary of the Treasury, in consultation with Secretary of State, to meet any of the criteria set forth in the Order.

The Annex to the Order listed five individuals whose property and interests in property are blocked pursuant to the Order.

On March 11, 2011, the Director of OFAC, in consultation with the Secretary of State, designated, pursuant to one or more of the criteria set forth in subparagraphs (b)(i) through (b)(vi) of Section 1 of the Order, nine individuals whose property and interests in property are blocked, pursuant to the Order. The listing for these individuals is as follows:

1. AL-SENUSSI, Abdullah (a.k.a. SENUSSI, Abdullah); DOB 1949; POB Sudan; Director of Military Intelligence; Colonel (individual) [LIBYA2]

2. DORDA, Abu Zaid (a.k.a. DORDA, Abouzid Omar; a.k.a. DORDA, Abu Zayd Umar; a.k.a. DORDA, Bu Zaid; a.k.a. DOURDA, Abu Zaid Omar; a.k.a. DURDA, Abu Zeid Omar); DOB 4 Apr 1944; Director of the External Security Organization (individual) [LIBYA2]

3. FARKASH, Safia (a.k.a. FARKASH AL-BARASSI, Safia); DOB 1952; POB Al Bayda, Libya (individual) [LIBYA2]

4. GADDAFI, Hannibal (a.k.a. AL-GADDAFI, Hannibal; a.k.a. AL-QADHAFI, Hannibal; a.k.a. ELKADDAFI, Hannibal; a.k.a. EL-QADDAFI, Hannibal; a.k.a. GADDAFI, Hannibal Muammar; a.k.a. GHADAFFI, Hannibal; a.k.a. GHATHAFI, Hannibal; a.k.a. QADDAFI, Hannibal; a.k.a. QADHAFI, Hannibal Muammar); DOB 20 Sep 1975; alt. DOB 1977; POB Tripoli, Libya; Passport B/002210 (Libya) (individual) [LIBYA2]

5. GADDAFI, Muhammad (a.k.a. AL-GADDAFI, Muhammad; a.k.a. AL-QADHAFI, Mohammed; a.k.a. ELKADDAFI, Muhammad; a.k.a. EL-QADDAFI, Muhammad; a.k.a. GADHAFFI, Mohammad Moammar; a.k.a. GADHAFI, Mohammed; a.k.a. GHATHAFI, Muhammad; a.k.a. QADDAFI, Muhammad; a.k.a. QADHAFI, Mohammed Muammar); DOB 1970; POB Tripoli, Libya (individual) [LIBYA2]

6. GADDAFI, Saadi (a.k.a. AL-GADDAFI, Saadi; a.k.a. AL-QADHAFI, Sa'adi Mu'ammar; a.k.a. ELKADDAFI, Saadi; a.k.a. EL-QADDAFI, Saadi; a.k.a. GADHAFI, Saadi; a.k.a. GHATHAFI, Saadi; a.k.a. QADDAFI, Saadi; a.k.a. QADHAFI, Saadi); DOB 27 May 1973; alt. DOB 25 May 1973; POB Tripoli, Libya; Passport 010433 (Libya); alt. Passport 014797 (Libya) (individual) [LIBYA2]

7. GADDAFI, Saif Al-Arab (a.k.a. AL-GADDAFI, Saif Al-Arab; a.k.a. AL-QADHAFI, Saif Al-Arab; a.k.a. ELKADDAFI, Saif Al-Arab; a.k.a. EL-QADDAFI, Saif Al-Arab; a.k.a. GADDAFI, Seif Al-Arab; a.k.a. GADHAFI, Saif Al-Arab; a.k.a. GHATHAFI, Saif Al-Arab; a.k.a. QADDAFI, Saif Al-Arab; a.k.a. QADHAFI, Saif Al-Arab); DOB 1979; alt. DOB 1982; alt. DOB 1983; POB Tripoli, Libya (individual) [LIBYA2]

8. JABIR, Abu Bakr Yunis (a.k.a. JABER, Abu Bakr Yunis); DOB 1952; POB Jalo, Libya; Defense Minister; Major General (individual) [LIBYA2]

9. MATUQ, Matuq Mohammed (a.k.a. MATOUK, Matouk Mohamed; a.k.a. MATUQ, Matuq Muhammad); DOB 1956; POB Khoms, Libya; Secretary of the General People's Committee for Public Works (individual) [LIBYA2]

Dated: March 11, 2011.
Barbara C. Hammerle,
Acting Director, Office of Foreign Assets Control.

[FR Doc. 2011-8755 Filed 4-11-11; 8:45 am]

BILLING CODE 4811-45-P